DEPARTMENT OF TRANSPORTATION

Federal Aviation Administration

Notice of Intent To Rule on Request to Disposal of Former Air Force Industrial Building at Pease International Tradeport, Portsmouth, NH

AGENCY: Federal Aviation Administration (FAA), DOT.

ACTION: Request for Public Comments.

SUMMARY: Notice is being given that the FAA is considering a request from the Pease Development Authority to dispose of a former Air Force industrial building at Pease International Tradeport, Portsmouth, NH, under the provisions of 49 U.S.C. 47107(h)(2). The building is no longer needed by the Pease Development Authority and can be sold to a company. The proceeds of the sale of the building will be placed in the airport operations and maintenance account. The land upon which the building lies will be retained by the Pease Development Authority for long term non-aeronautical lease revenue generation.

DATES: Comments must be received on or before June 14, 2021.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE, Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts 01803. Telephone: 781-238-7618.

Issued in Burlington, Massachusetts on May 7, 2021.
Julie Seltsam-Wilps,
Deputy Director, ANE-600.

[FR Doc. 2021-10053 Filed 5-12-21; 8:45 am]

BILLING CODE P